DEPARTMENT OF AGRICULTURE

Natural Resources Conservation Service

Notice of Proposed Changes for Section IV of the Field Office Technical Guide

AGENCY: Natural Resources Conservation Service (NRCS), USDA.

ACTION: Notice and request for comments.

SUMMARY: It is the intention of NRCS in Maryland to issue new or revised conservation practice standards for Section IV of the Field Office Technical Guide. These standards include, but are not limited to, the following: Anaerobic Digester, Controlled Temperature (Code 366); Animal Mortality Facility (Code 316); Brush Management (Code 314); Closure of Waste Impoundments (Code 360); Composting Facility (Code 317); Feed Management (Code 592); Field Border (Code 386); Filter Strip (Code 393); Fishpond Management (Code 399); Forage Harvest Management (Code 511); Forest Stand Improvement (Code 666); Heavy Use Area Protection (Code 561); Hedgerow Planting (Code 422); Irrigation Water Management (Code 449); Lined Waterway or Outlet (Code 468); Manure Transfer (Code 634); Nutrient Management (Code 590); Pest Management (Code 595); Pond Sealing or Lining, Compacted Clay Treatment (Code 521D); Residue and Tillage Management (Codes 329, 345, and 346); Riparian Forest Buffer (Code 391); Sediment Basin (Code 350); Shallow Water Development and Management (Code 646); Streambank and Shoreline Protection (Code 580); Structure for Water Control (Code 587); Subsurface Drain (Code 606); Surface Drain, Field Ditch (Code 607); Tree/Shrub Establishment (Code 612); Upland Wildlife Habitat Management (Code 645); Use Exclusion (Code 472); Waste Storage Facility (Code 313); Waste Treatment Lagoon (Code 359); Waste Utilization (Code 633); Wastewater Treatment Strip (Code 635); Water and Sediment Control Basin (Code 638); Water Well (Code 642); Wetland Creation (Code 658); Wetland Restoration (Code 657); Wetland Wildlife Habitat Management (Code 644); Windbreak/Shelterbelt Establishment (Code 380). Some of these practice standards may be used in conservation systems to comply with Highly Erodible Land and Wetland Conservation provisions of the Farm Bill.

DATES: Revised standards and new standards will be issued periodically during calendar year 2006. There will be a 30-day public comment period for each draft standard. Conservation practice standards will be issued as final after the close of the comment period.

FOR FURTHER INFORMATION CONTACT: Electronic copies will be posted on the Internet at the following address: http://www.md.nrcs.usda.gov/technical/draftcps_no.html. Paper copies will be mailed to persons who do not have Internet access. Please submit requests for paper copies to Anne M. Lynn, State Resource Conservationist, Natural Resources Conservation Service, 339 Busch's Frontage Road, Suite 301, Annapolis, MD 21401.

SUPPLEMENTARY INFORMATION: Section 343 of the Federal Agriculture Improvement and Reform Act of 1996 states that revisions made to NRCS state technical guides used to carry out highly erodible land and wetland provisions of the law shall be made available for public review and comment. NRCS will provide a 30-day public review and comment period concerning the proposed changes. At the close of the comment period, NRCS will make a determination regarding any changes to the draft conservation practice standards, and will publish the final standards for use in NRCS field offices. The final standards will also be posted on the Internet at the following address: http://www.nrcs.usda.gov/technical/efotg.

Dated: April 10, 2006.
Virginia (Ginger) L. Murphy,
State Conservationist, NRCS, Annapolis, Maryland.

[FR Doc. E6-5867 Filed 4-18-06; 8:45 am]

BILLING CODE 3410-16-P